DEPARTMENT OF ENERGY

Federal Energy Regulatory Commission

[Docket No. EG05-19-000, et al.]

Texas Genco, L.P., et al.; Electric Rate and Corporate Filings

November 3, 2004.

The following filings have been made with the Commission. The filings are listed in ascending order within each docket classification.

1. Texas Genco, LP

[Docket No. EG05-19-000]

Take notice that on October 28, 2004, Texas Genco, LP (Genco) tendered for filing an application for a determination of exempt wholesale generator status, pursuant to section 32(a)(1) of the Public Utility Holding Company Act of 1935, as amended (PUHCA), 15 U.S.C. 79z-5a(a)(1) (2000), and subchapter T, part 365 of the regulations of the Federal Energy Regulatory Commission 18 CFR part 365 (2004).

Genco states that it is a limited partnership organized and existing under the laws of the State of Texas that will continue to own an interest in an electric generating facility with an aggregate maximum capacity of approximately 2,500 megawatts located in Texas. Genco states that it is and will continue to be engaged directly, or indirectly through one or more affiliates as defined in section 2(a)(11)(B) of PUHCA, and exclusively in the business of owning eligible facilities, and selling electric energy at wholesale.

Comment Date: 5 p.m. eastern time on November 18, 2004.

2. TransCanada Hydro Northeast Inc.

[Docket No. EG05-20-000]

On October 29, 2004, TransCanada Hydro Northeast Inc. (TC Hydro NE), a Delaware corporation with its principal place of business in Westborough, Massachusetts, filed with the Federal Energy Regulatory Commission an application for determination of exempt wholesale generator status pursuant to part 365 of the Commission's regulations.

TC Hydro NE states it will operate hydroelectric assets with a total generating capacity of approximately 560 MW located in Massachusetts, New Hampshire and Vermont (the hydro assets). TC Hydro NE further states that the hydro assets are interconnected to the transmission system of New England Power.

Comment Date: 5 p.m. eastern time on November 19, 2004.

3. City of Pasadena, California

[Docket No. EL05-18-000]

Take notice that on October 29, 2004, the City of Pasadena, California (Pasadena) submitted for filing a Petition for Declaratory Order and Request for Waiver of Filing Fee on Behalf of the City of Pasadena, California. Pasadena's Petition requests that the Commission issue an order: (1) accepting Pasadena's Transmission Revenue Requirement (TRR) and Transmission Owner (TO) Tariff submitted with Pasadena's Petition for filing effective as of the later of January 1, 2005 or the effective date of a Transmission Control Agreement acceptable to Pasadena, (2) approving Pasadena's TRR, (3) waiving the filing fee for Pasadena's petition, and (4) granting any other relief or waivers as may be necessary or appropriate for approval or implementation of Pasadena's TRR and TO Tariff.

Comment Date: 5 p.m. eastern time on November 19, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3602 Filed 12-10-04; 8:45 am]

BILLING CODE 6717-01-P